DEPARTMENT OF COMMERCE

Foreign-Trade Zones Board

[Order No. 1180]

Grant of Authority for Subzone Status Deere & Company (Construction Equipment) Davenport, IA

Correction

In notice document 01-19471 appearing on page 40673 in the issue of Friday, August 3, 2001, make the following correction:

On page 40673, in the third column, in the signature block, the date should read “Signed at Washington, DC, this 27th day of July 2001.”.

[FR Doc. C1-19471 Filed 8-20-01; 8:45 am]

BILLING CODE 1505-01-D

DEPARTMENT OF COMMERCE

Foreign-Trade Zones Board

[Order No. 1181]

Grant of Authority for Subzone Status; Atlantic Richfield Company (Oil Refinery) Long Beach, CA Area

Correction

In notice document 01-19472 appearing on page 40673 in the issue of Friday, August 3, 2001, make the following correction:

On page 40673, in the second column, in the signature block, the date should read “Signed at Washington, DC, this 27th day of July 2001. ”.

[FR Doc. C1-19472 Filed 8-20-01; 8:45 am]

BILLING CODE 1505-01-D

DEPARTMENT OF DEFENSE

Department of the Army, Corp of Engineers

Proposal To Reissue and Modify Nationwide Permits; Notice

Correction

In notice document 01-19841 beginning on page 42070 in the issue of Thursday, August 9, 2001, make the following correction:

On page 42090, in the third column, in the third paragraph, in the second line, the fraction “1/10”, should read “1/2”.

[FR Doc. C1-19841 Filed 8-20-01; 8:45 am]

BILLING CODE 1505-01-D

FEDERAL HOUSING FINANCE BOARD

12 CFR Parts 925, 930, 931, 932, and 933

[No. 2001-17]

RIN 3069-AB06

Capital Requirements for Federal Home Loan Banks

Correction

In proposed rule document 01-19852 beginning on page 41462 in the issue of Wednesday, August 8, 2001, make the following correction:

On page 41462, in the third column, under the heading ADDRESSES:, in the third line, insert “bakere@fhfb.gov” after the word “at”.

[FR Doc. C1-19852 Filed 8-20-01; 8:45 am]

BILLING CODE 1505-01-D

FEDERAL HOUSING FINANCE BOARD

12 CFR Parts 930 and 932

[No. 2001-16]

RIN 3069-AB11

Unsecured Credit Limits for Federal Home Loans Banks

Correction

In proposed rule document 01-19851 beginning on page 41474 in the issue of Wednesday, August 8, 2001, make the following correction:

On page 41475, in the second column, in footnote number 1, in the third line, “VMP” should read “FMP”.

[FR Doc. C1-19851 Filed 8-20-01; 8:45 am]

BILLING CODE 1505-01-D